DEPARTMENT OF LABOR

Employment and Training Administration

[TA-W-39, 216]

Bon L Campo L.P. El Campo, Texas; Notice of Termination of Investigation

Pursuant to section 221 of the Trade Act of 1974, an investigation was initiated on May 7, 2001, in response to a worker petition which was filed on behalf of workers at Bon L Campo L.P., El Campo, Texas.

During the full period of this investigation, no knowledgeable company official was located and no further information became available regarding the potential eligibility of this worker group. Consequently further investigation in this case would serve no purpose, and the investigation has been terminated.

Dated: Signed in Washington, DC, this 28th day of January, 2002.
Linda G. Poole,
Certifying Officer, Division of, Trade Adjustment Assistance.

[FR Doc. 02-2690 Filed 2-4-02; 8:45 am]

BILLING CODE 4510-30-M